DEPARTMENT OF TRANSPORTATION

Federal Aviation Administration

RTCA Special Committee 198: Next-Generation Air/Ground Communications System (NEXCOM)

AGENCY: Federal Aviation Administration (FAA) DOT.

ACTION: Notice of RTCA Special Committee 198 meeting.

SUMMARY: The FAA is issuing this notice to advise the public of a meeting of RTCA Special Committee 198: Next-Generation Air/Ground Communications System (NEXCOM).

DATES: The meeting will be held on February 18-19, 2003, starting at 9 a.m.

ADDRESSES: The meeting will be held at RTCA, 1828 L Street, Suite 805, Washington, DC, 20036.

FOR FURTHER INFORMATION CONTACT: RTCA Secretariat, 1828 L Street, NW., Suite 805, Washington, DC, 20036; telephone (202) 833-9339; fax (202) 833-9434; Wed site http://www.rtca.org.

SUPPLEMENTARY INFORMATION: Pursuant to section 10(a)(2) of the Federal Advisory Committee Act (Pub. L. 92-463, 5 U.S.C., Appendix 2), notice is hereby given for a Special Committee 198 meeting. The agenda will include:

• February 18:

• Opening Plenary Session (Welcome and Introductory Remarks, Review Agenda and Minutes of Previous Meeting)

• Status of RTCA Program Management Committee (PMC) review of the NEXCOM Safety and Performance Requirements (SPR) Documents

• Discussion of SPR comments for Change 1 and guidance from PMC regarding SPR

• Status of Working Group-4 (WG), Very High Frequency Digital Link-3 Implementation

• Status of WG-6, Interoperability of NEXCOM

• Status of additional work for WG-5 for Plenary Approval

• Presentation of draft WG-4 Transition Document to Plenary for approval

• February 19:

• Continuation of Plenary, if needed, to conclude WG-4 review of final draft.

• WG-4 to finalize document for submission for final review and comment (FRAC)

• WG-5 continue to review and draft Change 1 to SPR

• Closing Plenary Session (Date and Place of Next Meeting)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on January 28, 2003.
Janice L. Peters,
FAA Special Assistant, RTCA Advisory Committee.

[FR Doc. 03-2420 Filed 1-31-03; 8:45 am]

BILLING CODE 4910-13-M